DEPARTMENT OF COMMERCE

National Oceanic and Atmospheric Administration

RIN 0648-XF791

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS (Assistant Regional Administrator), has made a preliminary determination that an exempted fishing permit application contains all of the required information and warrants further consideration. This permit would allow Coonamessett Farm Foundation to test the selectivity of alternate gillnet configurations for targeting haddock on Georges Bank while reducing catch of other groundfish species. Up to five commercial fishing vessels would target haddock using alternate gillnet gears on Georges Bank, including Closed Area I, and temporarily retain undersized catch for measurement and data collection.

Regulations under the Magnuson-Stevens Fishery Conservation and Management Act require publication of this notification to provide interested parties the opportunity to comment on applications for proposed exempted fishing permits.

DATES: Comments must be received on or before November 13, 2017.

ADDRESSES: You may submit written comments by any of the following methods:

• Email: NMFS.GAR.EFP@noaa.gov. Include in the subject line “Comments on Testing Selectivity and Raised Webbing Gillnets on Target and Non-Target Species in the Northeast Haddock Fishery.”

• Mail: John K. Bullard, Regional Administrator, NMFS, Greater Atlantic Regional Fisheries Office, 55 Great Republic Drive, Gloucester, MA 01930. Mark the outside of the envelope “Comments on Testing Selectivity of Alternative Gillnet Configurations in the Northeast Haddock Fishery.”

FOR FURTHER INFORMATION CONTACT: Kyle Molton, Fishery Management Specialist, 978-281-9236, Kyle.Molton@noaa.gov.

SUPPLEMENTARY INFORMATION: Coonamessett Farm Foundation (CFF) submitted a complete application for an exempted fishing permit (EFP) on August 16, 2017, to conduct commercial fishing activities that the regulations would otherwise restrict. The EFP would authorize five vessels to use test alternate gillnet configurations in Closed Area I and to temporarily retain undersized catch for measurement and data collection. The exemptions are necessary because vessels on commercial groundfish trips are prohibited from fishing in Closed Area I, using gillnets with mesh size less than 6.5 inches (16.51 cm), and from retaining undersized groundfish. The applicant is requesting access to Closed Area I in order to access high densities of haddock, which would result in a greater likelihood of achieving statistically significant results.

The project, titled “Testing Selectivity and Raised Webbing Gillnets on Target and Non-Target Species in the Northeast Haddock Fishery” would be conducted by CFF in cooperation with five commercial fishing vessels. The study would take place on Georges Bank, including in Closed Area I, from December 2017 through January 2019, with five vessels planning to fish no more than 24 trips total. Vessels would fish a maximum of thirty-two 50-fathom (91.44-m) gillnets in strings made up of 4 nets each. Two of the nets in each four-net string would be standard 6.5-inch (16.51-cm) mesh and two would be 6.0-inch (15.24-cm) mesh. One net of each mesh size (6.5-inch [16.51-cm] and 6.0-inch [15.24-cm]) in each string would be rigged with a 30-inch (76.2-cm) raised webbing section along the bottom. Two to three hauls of the nets are expected during each day at sea with an average soak time of 6 hours for each set.

A CFF researcher or technician would accompany all trips that occur under this EFP to identify all fish caught, as well as measure and weigh catch. Undersized fish would be discarded as quickly as possible after sampling. All Northeast multispecies of legal size would be landed, and all catch and estimated discards would be attributed to the vessel's sector annual catch entitlement, consistent with standard catch accounting procedures.

If approved, the applicant may request minor modifications and extensions to the EFP throughout the year. EFP modifications and extensions may be granted without further notice if they are deemed essential to facilitate completion of the proposed research and have minimal impacts that do not change the scope or impact of the initially approved EFP request.

Authority: 16 U.S.C. 1801 et seq.

Dated: October 24, 2017.
Emily H. Menashes,
Acting Director, Office of Sustainable Fisheries, National Marine Fisheries Service.

[FR Doc. 2017-23441 Filed 10-26-17; 8:45 am]

BILLING CODE 3510-22-P